DEPARTMENT OF TRANSPORTATION

Office of the Secretary

Regional Infrastructure Accelerator Demonstration Program

AGENCY: Build America Bureau, Department of Transportation (DOT).

ACTION: Notice of funding opportunity.

SUMMARY: The Fixing America's Surface Transportation (FAST) Act, enacted in December 2015, authorized the establishment of a Regional Infrastructure Accelerators Demonstration Program (the Program) to assist entities in developing improved infrastructure priorities and financing strategies for the accelerated development of a project that is eligible for funding under the Transportation Infrastructure Finance and Innovation Act (TIFIA) Credit Program. The Consolidated Appropriations Act, 2021, enacted on December 27, 2020, appropriated $5 million for this Program. A NOFO was issued in December 2020 and five accelerators were selected from the initial round of applicants. The Build America Bureau (the Bureau) is issuing a second NOFO to further expand the Program and solicit applications for designating and funding Regional Infrastructure Accelerators (RIA) that: (1) Serve a defined geographic area; (2) act as a resource to qualified entities in the geographic area in accordance with the FAST Act; and (3) demonstrate the effectiveness of an RIA to expedite the delivery of projects eligible for the TIFIA credit program. Projects are not required to apply for or receive TIFIA credit assistance to be eligible; however, applicants who are considering the appropriateness of innovative financing methods such as TIFIA, the Railroad Rehabilitation and Improvement Financing (RRIF) credit program, Private Activity Bonds (PABs), project bundling, private investment, and other innovative financing methods to accelerate the delivery of eligible projects are strongly encouraged to apply.

SUPPLEMENTARY INFORMATION: Each section of this notice contains information and instructions relevant to the application process for the RIA grants. All applicants should read this notice in its entirety so that they have the information they need to submit eligible and competitive applications.

Table of Contents

A. Program Description

B. Federal Award Information

C. Eligibility Information

D. Application and Submission Information

E. Application Review Information

F. Federal Award Administration Information

G. Federal Awarding Agency Contacts

H. Other Information

A. Program Description

1. Background: The Bureau is responsible for driving transportation infrastructure development projects in the United States through innovative financing programs. Its mission is to provide access to the Bureau's credit programs in a streamlined, expedient, and transparent manner. In accomplishing its mission, the Bureau also provides technical assistance and encourages innovative best practices in project planning, financing, delivery, and monitoring. The Bureau draws upon the full resources of DOT to best utilize the expertise of DOT's Operating Administrations while promoting a culture of innovation and customer service.

Section 1441 of the FAST Act ¹ authorized the Program. On December 31, 2020, the Bureau issued a NOFO (85 FR 86983) following the Further Consolidated Appropriations Act, 2020.² The Consolidated Appropriations Act, 2021,³ appropriated $5 million to continue the Program, which is the source of this funding opportunity.

¹ Public Law 114-94, 129 Stat. 1312, 1435 (Dec. 4, 2015).

² Public Law 116-94, div. H, tit. I, 133 Stat. 2946 (Dec. 20, 2019).

³ Public Law 116-260, div. L, tit. I (as enrolled Dec. 27, 2020).

The intent of this Program is to demonstrate and evaluate the viability and effectiveness of a small number of accelerators in expediting the development and delivery of specific transportation projects within the geographic area of each RIA designated by the Bureau. It is the intent of the Bureau to expand the Program coverage building on the earlier designation of five RIAs in Cleveland, Chicago, Fresno, San Diego, and Seattle as result of the NOFO issued in December 31, 2020. Therefore, the Bureau continues to be keenly interested in testing several RIA models to address needs based on common transportation infrastructure make-up and challenges within regions, particularly those with less capacity or experience in using innovative financing and project delivery methods, and those supporting eligible entities that are likely to be first time users of the Bureau's credit programs, such as the TIFIA credit program. The Bureau plans to select between one and five RIAs for awards under this program based on proposals submitted by eligible applicants in response to this notice. Ideally, when considering both the first and the second rounds of awards under this program, there will be a diversity of RIAs selected for awards based on geography (e.g., rural, urban, disadvantaged community), organizational structure (e.g., within a State or Metropolitan Planning Organization), operational business model and focus.

2. Regional Designation: For the purpose of this Program, the Bureau will consider regional designation as broadly defined in the following categories:

a. State or Multi-State: An RIA that serves one State or a group of State entities with common interest in transportation projects being delivered.

b. Urban or Metropolitan Planning Organization (MPO): An RIA that serves a local government or group of local jurisdictions with transportation functions within a metropolitan area. For this Program, if the RIA serves MPOs sharing State boundaries, it would be considered under this category.

c. Rural: An RIA that serves a region of rural communities as defined in this notice. An RIA serving multiple rural communities across state lines would be considered under this category. To be considered a rural RIA, most of the projects listed in the proposal must meet the definition of rural in Section C.5 of this notice.

d. Other: Any proposal that includes multiple jurisdictions with shared priorities and interest, such as a river basin, transportation corridor, etc.

3. Program Goals: The primary intent for the Program is to establish regional infrastructure accelerators to assist entities in accelerating TIFIA-eligible projects through innovative financing strategies. This assistance can be in the form of any of the following, based on the needs of the project(s) that the applicant proposes to assist:

a. Project planning;

b. Studies and analysis, including feasibility, market analysis, project costs, cost-benefit analysis, value for money, public benefit, economic assessments, and environmental reviews;

c. Revenue forecasting, funding and financing options analyses, application of best practices, innovative financing/procurement, and public-private partnerships, where appropriate:

d. Preliminary engineering and design work;

e. Statutory and regulatory compliance analyses;

f. Evaluation of opportunities for private financing, project bundling and/or phasing;

g. Enhancement of rural project sponsors' capacity to use the TIFIA credit program and to the extent applicable, the RRIF credit program, PABs, and other innovative financing methods, helping to bundle projects across multiple smaller jurisdictions to create a project at a scale that is more appropriate for the Bureau's credit assistance, and pool the jurisdictions' resources to apply for TIFIA credit assistance and, to the extent applicable, RRIF credit assistance and PABs, as well as leveraging DOT's Rural Opportunities to Use Transportation for Economic Success (ROUTES) Initiatives' ⁴ products and offerings; and

⁴ https://www.transportation.gov/rural.

h. Other direct, project-specific support as appropriate.

Funding, in the form of and pursuant to a cooperative agreement, will be provided for a single year, with an option for a second year for an RIA that meets or exceeds agreed-upon performance targets. Competitive proposals that demonstrate long-term self-sustainability will be given greater consideration. The Bureau intends to work closely with grant recipients in developing and, as applicable, financing projects within the RIA's geographic area.

4. Changes from the FY 2020 NOFO: This FY 2021 Regional Infrastructure Accelerator Demonstration Program NOFO updates the FY 2020 NOFO to reflect this Administration's priorities for creating good-paying jobs, improving safety, applying transformative technology, and explicitly addressing climate change and advancing racial equity. Therefore, the Bureau added the Transformative Projects criterion to clarify how the long-term project outcomes should align with the Administration's priorities in a competitive application. Applicants should refer to Section E of this NOFO for descriptions of the selection criteria, including the new Transformative Projects criterion. Additionally, this NOFO clarifies what would be required of the Applicant to receive a STRONG rating for evaluation Criteria, where applicable, as further described in Section E.1.

B. Federal Award Information

The Bureau hereby requests applications from all interested parties to result in the award of between one and five cooperative agreement(s), each containing substantial involvement on the part of the Federal government in accordance with Section 6305 of title 31, United States Code. The Bureau anticipates substantial Federal involvement between it and the recipient during this Program will include among others:

a. Technical assistance and guidance to the recipients;

b. Close monitoring of performance;

c. Involvement in technical decisions; and

d. Participation in status meetings including kick off meeting and annual technical and budget reviews.

1. Program Funding and Awards:

a. Number of Awards: The Bureau intends to select between one and five RIAs, based on the number and viability of applications.

b. Size of Award: A total of $5 million is available for this Program. The size of individual awards will be determined by the number of RIAs selected and the funding needed for each to meet the Program objectives.

2. Funding Period: The Bureau intends to award funds on a yearly basis for a period of two years under a cooperative agreement with the second year as an option year. A third option year of funding may be provided if the selected RIA is achieving agreed-upon performance objectives, subject to the availability of funds.

C. Eligibility Information

1. Eligible Applicants: To be selected as an RIA, an applicant must be an eligible applicant. An eligible applicant is: A U.S. public entity, including a state, multi-state or multi-jurisdictional group, municipality, county, a special purpose district or public authority with a transportation function including a port authority, a tribal government or consortium of tribal governments, MPO, regional transportation planning organization (RTPO), Regional Transportation Commission, or a political subdivision of a State or local government, or combination of two or more of the foregoing.

If more than one public entity is applying in a single proposal, one of the entities must be designated as the lead applicant. Such applicant will be authorized to negotiate and enter into a cooperative agreement with the Government on behalf of the entities, will be responsible for performance, and will be accountable for Federal funds. Applications will be accepted from a partnership between one or more eligible applicants and another U.S. party, such as a private entity, consulting or engineering firms, etc., as long as one of the eligible public entities is designated as the lead applicant and that entity will enter into the cooperative agreement, with the shared goal of establishing and operating the RIA. The location of all RIA application parties, their entire jurisdictions and all proposed projects must be located solely in the United States and its territories. Proposed projects and project sponsors must meet the eligibility requirements for TIFIA credit assistance as further defined in Chapter 3 of the Bureau's Credit Program Guide (https://www.transportation.gov/sites/buildamerica.dot.gov/files/2019-08/Bureau%20Credit%20Programs%20Guide_March_2017.pdf#page=29). In addition, the Bureau will consider the extent to which an applicant demonstrates the capacity to accelerate projects eligible for the TIFIA credit program through the use of innovative financing strategies, including but not limited to the TIFIA and RRIF credit programs, PABs, project bundling, and private investment. Further, the Bureau will consider applications from any RIA that was designated pursuant to the prior NOFO to the extent that funding is available, and only after giving primary consideration to applicants who have not received any funding under this Program.

2. Cost sharing or Matching: There is no requirement for cost sharing or matching the grant funds.

3. Other: For the purposes of this Program, the following terms apply:

a. Rural Infrastructure Project: Consistent with the definition of “rural infrastructure project” for the TIFIA credit program, “rural” for the purposes of this notice is defined as a surface transportation infrastructure project located outside of an urbanized area with a population greater than 150,000 individuals, as determined by the Bureau of the Census.

b. A proposed region whose geographic authority is in both an urban and a rural area will be designated as urban if the majority of the projects listed in the proposal are located in urban areas. Conversely, a proposed region located in both an urban area and a rural area will be designated as rural if the majority of the projects listed in the proposal are in rural areas.

c. Urban/Rural Project determination: A project located in both an urban and a rural area will be designated as urban if less than ½ of the project's costs are spent in a rural area. If ⅔ or more of a project's costs are spent in a rural area, the project will be designated as rural. For projects where between ½ and ⅔ of their costs are in a rural area, the project will be designated as rural if the applicant demonstrates that ⅔ or more of the project's benefits accrue to users in rural areas; if the applicant does not make such demonstration, the project will be designated as urban.

D. Application and Submission Information

1. The Application Package: Applicants must submit all applications through www.Grants.gov. Instructions for submitting applications can be found at https://www.transportation.gov/buildamerica/financing/tifia/regional-infrastructure-accelerators-program.

2. Content and Form of Application Submission: The application must include the Standard Form 424 (Application for Federal Assistance), cover page, and the application narrative.

a. Cover Page: Each application should include a cover page that contains, at minimum, name of the applicant and sponsor, if applicable, the location; the region of designation; category of designation for which the applicant is to be considered; and RIA budget amount.

b. Application Narrative: The application narrative should follow the basic outline below to address the Program requirements and assist evaluators in locating relevant information.

Section | Section explained
I. Applicant | See D.2.I.
II. Description of Proposed Geographic/Jurisdictional Region | See D.2.II.
III. Accelerator Proposal | See D.2.III.
IV. Budget, Sources and Uses for Full Accelerator Funds | See D.2.IV.
V. Selection Criteria | See D.2.V.

The application narrative should include the information necessary for the Bureau to determine that the applicant(s) proposed regional focus, the overall accelerator proposal, list of intended projects, budget, and other information satisfy the eligibility requirements set forth in this notice as described in Section C and to assess the selection criteria specified in Section E.1. To the extent practicable, applicants should provide supporting data and documentation in a form that is directly verifiable by the Bureau. The Bureau may ask any applicant to supplement data in its application but expects applications to be complete upon submission.

In addition to the information requested elsewhere in this notice, the proposal should include a table of contents, maps, and graphics, as appropriate, to make the information easier to review. The Bureau recommends that the proposal be prepared with standard formatting preferences (a single-spaced document, using a standard 12-point font such as Times New Roman, with 1-inch margins). The proposal narrative may not exceed 30 pages in length, excluding cover pages and table of contents. The only substantive portions that may exceed the 30-page limit are documents supporting assertions or conclusions made in the 30-page project narrative. If possible, applicants should provide website links to supporting documentation rather than copies of these supporting materials. If supporting documents are submitted, applicants should clearly identify within the project narrative the relevant portion of the project narrative that each supporting document supports. The Bureau recommends using appropriately descriptive file names (e.g., “Project Narrative,” “Maps,” “Memoranda of Understanding” and “Letters of Support,” etc.) for all attachments.

I. Applicant: This section of the narrative should include information describing the organizational structure and formal/informal relationships between parties associated with the RIA application. It should directly address the eligibility requirements discussed in section C.1 of this notice. The applicant should use this section to explain the organization's history, qualifications, and experience of key individuals who will be working in the proposed RIA. This section should also include descriptions of previous projects relevant to the RIA's activities envisioned in this notice that the organization or its individuals completed. The narrative should place the projects into a broader context of transportation infrastructure investments being pursued by the proposed RIA and its sponsors, and how it will benefit communities within the region.

II. Description of Proposed Geographic/Jurisdictional Region: This portion of the narrative should precisely identify the geographic region, the jurisdictions, and the agencies the RIA would serve and identify which of the four categories of RIA identified in Section A.2 that this proposal falls under, and explain why. The narrative should explain the commonalities and shared interests of parties in the proposed region as the rationale for establishing a region of this construct, along with the affiliations within the proposed region. Consistent with the Department's ROUTES Initiative (https://www.transportation.gov/rural), the Department encourages applicants to describe how activities proposed in their application would address the unique challenges facing rural transportation networks, regardless of the geographic location of those activities.

III. Accelerator Proposal: This section of the narrative should explain how the applicant(s) propose to establish the RIA and the concept of how it would operate, and provide the project-specific services identified in Section A of this notice, along with a proposed timeline for establishing the RIA, with key milestones and suggested performance targets during its operational phase. The applicant should describe, in sufficient detail, the applicant's approach to identifying and building the pipeline of projects to be undertaken and how they will develop such projects utilizing their experience and expertise, and identify an initial pipeline of projects that are eligible for TIFIA credit assistance and, to the extent applicable, RRIF credit assistance, PABs, and other innovative financing methods. The narrative should also contain a list of projects that the applicant(s) propose to assist under the RIA. This list, to the extent possible, should include, at a minimum:

a. Project name and location;

b. Project sponsor;

c. Description;

d. Bureau program most likely to apply (TIFIA, RRIF, PABs);

e. Support activities the applicant envisions the RIA would provide

f. Project costs; and

g. Project timeline.

IV. Budget, Sources, and Uses for Full Accelerator Funds: The applicant should include a proposed financial plan and budget including the Federal grant amount requested, non-Federal matching funds, in-kind contributions, and other sources. The proposed plan should also include a list of activities and projects as well as all associated costs of the proposed RIA. For non-Federal matching funds, the application should identify the sources as well as supporting documentation indicating the degree to which those funds are committed and dates of their availability. If the applicant proposes that the RIA will reach a point of long-term self-sustainability, the narrative should include a description of how this would happen, and where the long-term funds would be generated.

V. Selection Criteria: This section of the application should demonstrate how the application aligns with the criteria described in Section E.1 of this notice. The Bureau intends to select and designate RIA that demonstrate in their proposal the ability to effectively assist entities in developing improved infrastructure priorities and financing strategies for the accelerated development of one or more projects eligible for funding under the TIFIA program. DOT will consider the extent to which an RIA is likely to effectively promote investment in eligible projects, develop a pipeline of regional transportation projects, and result in the implementation of projects with innovative financing methods.

The Bureau encourages applicants to either address each criterion or expressly state that the project does not address the criterion. Applicants are not required to follow a specific format, but the outline suggested addresses each criterion separately and promotes a clear discussion that assists project evaluators. To minimize redundant information in the application, the Bureau encourages applicants to cross-reference from this section of their application to relevant substantive information in other sections of the application. The guidance in this section is about how the applicant should organize their application. Guidance describing how the Bureau will evaluate projects against the Selection Criteria is in Section E.1 of this notice. Applicants also should review that section before considering how to organize their application.

3. Unique Entity Identifier and System for Award Management (SAM): Each applicant must: (1) Be registered in SAM before submitting its application; (2) provide a valid unique entity identifier in its application; and (3) continue to maintain an active SAM registration with current information at all times during which it has an active Federal award or an application or plan under consideration by a Federal awarding agency. The Department may not make an RIA grant to an applicant until the applicant has complied with all applicable unique entity identifier and SAM requirements and, if an applicant has not fully complied with the requirements by the time the Department is ready to make a grant, the Department may determine that the applicant is not qualified to receive a grant and use that determination as a basis for making a grant to another applicant.

4. Submission Dates and Timelines:

a. Deadline: Applications in response to this NOFO must be submitted through Grants.gov by 11:59 p.m. EST 90 days after publication of this notice. The Grants.gov “Apply” function will open on the date of publication. The Bureau may hold NOFO information session(s) before the due date.

To apply through Grants.gov, applicants must:

(1) Obtain a Data Universal Numbering System (DUNS) number;

(2) Register with the System Award for Management (SAM) at www.sam.gov; and

(3) Create a Grants.gov username and password; and

(4) The E-business Point of Contact (POC) at the applicant's organization must also respond to the registration email from Grants.gov and login at Grants.gov to authorize the POC as an Authorized Organization Representative (AOR). Please note that there can only be one AOR per organization.

Please note that the Grants.gov registration process usually takes 2-4 weeks to complete and that the Department will not consider late applications that are the result of failure to register or comply with Grants.gov applicant requirements in a timely manner. For information and instruction on each of these processes, please see instructions at http://www.grants.gov/web/grants/applicants/applicant-faqs.html. If interested parties experience difficulties at any point during the registration or application process, please call the Grants.gov Customer Service Support Hotline at 1(800) 518-4726, Monday-Friday from 7:00 a.m. to 9:00 p.m. EST.

5. Other Submission Requirements:

(a) Submission Location: Application must be submitted to Grants.gov.

(b) Consideration of Application: Only applicants who comply with all submission deadlines described in this notice and submit applications through Grants.gov will be eligible for award. Applicants are strongly encouraged to make submissions in advance of the deadline.

(c) Late Applications: Applicants experiencing technical issues with Grants.gov that are beyond the applicant's control must contact RIA@dot.gov prior to the application deadline with the username of the registrant and details of the technical issue experienced. The applicant must provide:

(1) Details of the technical issue experienced;

(2) Screen capture(s) of the technical issues experienced along with corresponding Grants.gov “Grant tracking number”;

(3) The “Legal Business Name” for the applicant that was provided in the SF-424;

(4) The AOR name submitted in the SF-424;

(5) The DUNS number associated with the application; and

(6) The Grants.gov Help Desk Tracking Number.

To ensure a fair competition of limited discretionary funds, the following conditions are not valid reasons to permit late submissions: (1) Failure to complete the registration process before the deadline; (2) failure to follow Grants.gov instructions on how to register and apply as posted on its website; (3) failure to follow all the instructions in this notice of funding opportunity; and (4) technical issues experienced with the applicant's computer or information technology environment. After the Department reviews all information submitted and contacts the Grants.gov Help Desk to validate reported technical issues, USDOT staff will contact late applicants to approve or deny a request to submit a late application through Grants.gov. If the reported technical issues cannot be validated, late applications will be rejected as untimely.

6. Applications under this NOFO are not subject to the State review under E.O. 12372.

7. Funding Restrictions: The DOT will not reimburse any pre-award costs or application preparation costs under this proposed agreement. Construction of any project being contemplated or aided by the proposed RIA is not an allowable activity under this grant. All non-domestic travel must be approved in writing by the DOT designated agreement officer prior to incurring costs. Travel requirements under the cooperative agreement will be met using the most economical form of transportation available. If economy class transportation is not available, the request for payment vouchers must be submitted with justification for use of higher-class travel indicating dates, times, and flight numbers.

E. Application Review Information

1. Criteria: This section specifies the criteria that the Bureau will use to evaluate and award applications for Program grants. The criteria incorporate statutory eligibility requirements. For each proposed RIA, the Bureau will review the application for the criteria described in this section. The Bureau does not consider any criterion more important than the others.

A. Experience/Qualifications: The Bureau will assess whether and to what extent the applicant(s):

(1) Possess the ability to evaluate and promote innovative financing methods for local projects including the use of TIFIA and RRIF and other Federal assistance programs where applicable;

(2) Possess the ability to provide technical assistance on best practices with respect to financing projects;

(3) Have experience in increasing transparency with respect to infrastructure project analysis and using innovative financing for public infrastructure projects;

(4) Have experience in deploying predevelopment capital programs designed to facilitate the creation of a pipeline of infrastructure projects available for investment;

(5) Have a history of successfully bundling smaller-scale and rural projects into larger proposals that may be more attractive for private investment;

(6) Have demonstrated success in reducing transaction costs for public project sponsors;

(7) Demonstrate the capacity to accelerate projects eligible for the TIFIA credit program through the use of innovative financing strategies such as the TIFIA and RRIF credit programs, and PABs, but also other strategies such as project bundling, grant anticipation revenue vehicles, and incorporating private capital;

(8) Have experience in the development of project financial plans, including developing capital structures and identifying funding and financing sources, as well as a demonstrated track record for achieving financial close and

(9) Have experience in working with private sector project sponsors disadvantaged communities, including but not limited to rural and low resources communities as well as working on revitalization projects.

An applicant that demonstrates substantial experience of 10 years or more in the development and delivery of projects, including the use of alternative delivery methods such as design-build and/or public private partnerships (P3) as related to items (1) through (9) above, and innovative financing particularly the use of TIFIA and RRIF or PABs will receive a STRONG rating in this criterion.

B. Partnerships: The Bureau will consider the extent to which applicant(s) demonstrate strong collaboration among a broad range of stakeholders in the proposed geographic area of the RIA. Applications with strong partnerships typically involve multiple partners in project development, funding, and finance. The Bureau will consider applicants that partner with State, local, and private entities for the development, funding, financing, and delivery of transportation projects to have strong partnerships. Evaluators will also consider the relationship of the RIA with its constituencies and authorities granted by them. The Bureau will assess the ability of the proposed RIA to develop projects quickly and effectively by having the support of its members and working across jurisdictions.

An applicant that can demonstrate effective partnerships with public, private sector and/or academic entities will receive a STRONG rating in this criterion.

C. Regional Viability: The Bureau will evaluate the proposed region, geographically, organizationally, and functionally, as well as its jurisdictional relevance. In evaluating this criterion, the Bureau will consider the geographic make-up of the proposed RIA and the transportation needs of the region.

D. Business Model: The Bureau will assess the thoroughness, viability, and efficiency that the applicant(s) can establish the RIA, commence operations, and deliver project-specific outcomes. In conducting this assessment, evaluators will consider:

(1) The effort, cost, and actions necessary to initially establish the proposed RIA, including workspaces, fixed and variable costs, staffing, and the development of relationships necessary to function effectively in the proposed region.

(2) How the proposed RIA will operate once established, including costs, organization, efficiency, availability of the technical expertise and resources needed to accelerate project delivery, work plan, and time required to achieve operational status.

An applicant that can demonstrate the ability to stand up the RIA and achieve operations status within 6 months of executing a cooperative agreement will receive a STRONG rating in this criterion.

E. Pipeline: The Bureau will consider the proposed pipeline of projects and assess whether and to what extent they are likely to be eligible projects and appropriate for development activities as set forth in this notice. The proposed pipeline must include one or more projects likely to be eligible for TIFIA credit assistance. In evaluating this criterion, the Bureau will consider the number of eligible projects in the pipeline, the degree of local/regional support of the projects, and the project status and timeline as they relate to the likelihood the RIA can impact the project during the performance period of the cooperative agreement. Evaluators will also assess the degree to which the skills/experience of the applicant(s) are appropriate for the proposed projects. The Bureau will also evaluate the viability and proposed approach the applicant(s) have developed for attracting new projects into the RIA's pipeline of projects and how they propose to assist and monitor the development of those projects.

F. Readiness: The Bureau will consider the extent to which the proposed RIA is prepared to commence operations and begin achieving project-specific results. Evaluators will also assess the viability of the proposed budget as it relates to the establishment and successful operations of the RIA as proposed. In considering this criterion, evaluators will also determine the likelihood that proposed milestones will be subject to delay and/or cost overruns and the risk that key milestones might be missed due to internal or external factors. Evaluators will also consider the readiness of the proposed RIA to commence operations, including but not limited to:

(1) Availability of facilities and equipment necessary to function;

(2) Existing governance structure as compared to proposed future structure; and

(3) Ability of existing relationships to rapidly deliver results.

G. Value: The Bureau will evaluate the relative value of the proposal to individual projects and the taxpayer, including but not limited to: The number of projects likely to measurably be accelerated as a result of the proposed technical assistance of the RIA, the number of projects reasonably expected to utilize innovative financing, and the asset class(es) most prevalent in the proposed project portfolio. In considering this criterion, evaluators will also consider the applicant's proposed performance targets (Section III of the application) and how they compare to the overall proposed cost of the RIA (Section IV of the application).

H. Rural Assistance: In support of Executive Order 13985, Advancing Racial Equity and Support for Underserved Communities Through the Federal Government (86 FR 7009), the Department encourages applicants to consider how the project will address the challenges faced by individuals and underserved communities in rural areas.

Where applicable, the Bureau will evaluate the degree to which the proposal can support individual rural project sponsors. The Bureau will consider opportunities proposed to overcome common barriers to using TIFIA and RRIF credit assistance and other innovative financing methods for rural project sponsors, such as project size or type, financial or institutional capabilities, and other issues. Consistent with the Department's ROUTES Initiative (https://www.transportation.gov/rural), the Department recognizes that rural transportation networks face unique challenges. To the extent that those challenges are reflected in the merit criteria listed in this section, the Department will consider how the activities proposed in the application will address those challenges, regardless of the geographic location of those activities. This can include delivering innovative technical assistance and leveraging the DOT ROUTES Initiative to provide user-friendly information and other assistance to rural project sponsors.

I. Self-Sustainability: The Bureau will consider whether and to what extent the proposed RIA will achieve self-sustainability during the Program's effective period of receipt of Federal funding. In the event that a proposed RIA will not achieve self-sustainability, the Bureau will evaluate the extent to which the termination of the RIA might deliver long-term benefits as the result of projects delivered during the funding period.

An applicant that can demonstrate a model of self-sustainability and continued benefits beyond the effective period of Federal funding will receive a STRONG rating in this criterion.

J. Risk: The Bureau will assess the risks to successful implementation and operation of the proposed RIA, and the degree to which proposed mitigation activities might address/offset those risks. Evaluators will also assess the practicality of proposed mitigation activities in terms of cost, complexity, and time required to implement the actions.

An applicant that can demonstrate the development of, at minimum, qualitative risk assessments of proposed projects in meeting Federal eligibility requirements (see Chapter 3 of the Bureau Credit Programs Guide: https://www.transportation.gov/sites/buildamerica.dot.gov/files/2019-08/Bureau%20Credit%20Programs%20Guide_March_2017.pdf#page=29) will receive a STRONG rating in this criterion.

K. Transformative Projects: The Bureau will consider the extent to which the proposed project to be aided by the RIA will address the following Department priorities:

(1) Safety: DOT will assess the project's ability to foster a safe transportation system for the movement of goods and people, consistent with the Department's strategic goal to reduce transportation-related fatalities and serious injuries across the transportation system.

(2) Environmental Sustainability: DOT will consider the extent to which the project incorporates considerations of climate change, resilience, and environmental justice in the planning stage and in project delivery, such as through incorporation of specific design elements that address climate change impacts.

(3) Equity and Accessibility: DOT will consider the extent to which the project: (i) Increases transportation choices and equity for individuals; (ii) expands access to essential services for communities across the United States, particularly for underserved or disadvantaged communities; (iii) improves connectivity for citizens to jobs, health care, and other critical destinations, or (iv) proactively addresses racial equity ⁵ and barriers to opportunity, through the planning process or through incorporation of design elements.

⁵ Definitions for “racial equity” and “underserved communities” are found in Executive Order 13985, Advancing Racial Equity and Support for Underserved Communities Through the Federal Government, Sections 2 (a) and (b).

(4) Innovative Technology: Consistent with DOT's objectives to encourage transformative projects that take the lead in deploying innovative technologies and practices that drive outcomes in terms of safety, environmental sustainability, quality of life, and state of good repair, DOT will assess the extent to which the applicant uses innovative strategies, including: (i) Innovative technologies, (ii) innovative project delivery, or (iii) innovative financing.

(5) State of Good Repair: Consistent with the Department's strategic objective to maintain and upgrade existing transportation systems, DOT will assess whether and to what extent: (i) The project is consistent with relevant plans to maintain transportation facilities or systems in a state of good repair and address current and projected vulnerabilities; (ii) if left unimproved, the poor condition of the asset will threaten future transportation network efficiency, mobility of goods or accessibility and mobility of people, or economic growth; (iii) the project is appropriately capitalized, including whether project sponsor has conducted scenario planning and/or fiscal impact analysis to understand the future impact on public finances; (iv) a sustainable source of revenue is available for operations and maintenance of the project and the project will reduce overall life-cycle costs; (v) the project will maintain or improve transportation infrastructure that supports border security functions; and (vi) the project includes a plan to maintain the transportation infrastructure in a state of good repair. DOT will prioritize projects that ensure the good condition of transportation infrastructure, including rural transportation infrastructure, that support commerce and economic growth.

An applicant that can demonstrate a pipeline of viable projects that address at least four of the above listed Department priorities (in this Section E.1.K(1) through (5)) will receive a STRONG rating in this criterion.

2. Review and Selection Process: A Review Team will review all eligible applications received by the deadline. This Review Team will consist of Modal Liaisons from the Federal Highway Administration (FHWA), Federal Railroad Administration (FRA) and Federal Transit Administration (FTA) and Bureau employees designated by the Executive Director. The Program grants review and selection process consists of two steps: (1) The Review Team will evaluate each proposal and make a determination of eligibility based on criteria outlined in Section C.1 of this notice and, if deemed eligible; and (2) the Review Team will evaluate the proposal based on the Selection Criteria in Section E.1 of this notice. In reviewing the application, each criterion will be given one of the following qualitative ratings: STRONG, MODERATE, or MARGINAL. These ratings are based on the proposal's alignment with the criteria. No one criterion is weighted higher or lower than the others. A collective overall assessment rating will be assigned to each application based on the qualitative ratings assigned for each evaluation criterion. The collective overall assessment will ultimately reflect how well the proposal meets the goals of the Program as stated in Section A.3. of the NOFO. Each application will be given an overall assessment rating of “high” if it receives a rating of STRONG in at least 6 of the evaluation criteria; an overall assessment rating of “medium” if it receives a rating of MODERATE or a combination of STRONG and MODERATE in at least 6 of the evaluation criteria; and an overall assessment rating of “low” if it does not meet the requirements for a “medium” or “high”. The Review Team will present its findings to the Senior Review Team, which consists of Bureau Leadership, including the Executive Director. The Executive Director will finalize recommendations and present them to the Secretary. The final award decisions will be made by the Secretary of Transportation.

3. Additional Information: Prior to award, each selected applicant will be subject to a risk assessment as required by 2 CFR 200.205. The Department must review and consider any information about the applicant that is in the designated integrity and performance system accessible through SAM (currently the Federal Awardee Performance and Integrity Information System (FAPIIS)). An applicant may review information in FAPIIS and comment on any information about itself. The Department will consider comments by the applicant, in addition to the other information in FAPIIS, in making a judgment about the applicant's integrity, business ethics, and record of performance under Federal awards when completing the review of risk posed by applicants.

F. Federal Award Administration Information

1. Federal Award Notice

Following the evaluation process outlined in Section E.2, the Secretary will announce awarded projects by posting a list of selected RIA at https://www.transportation.gov/buildamerica/financing/tifia/regional-infrastructure-accelerators-program. Notice of selection is not authorization to begin performance or to incur costs for the proposed RIA. Following that announcement, the Bureau will contact the point of contact listed in the SF 424 to initiate negotiation of the cooperative agreement.

2. Administration and National Policy Requirements

Performance under the cooperative agreement will be governed by and in compliance with the following requirements as applicable to the type of organization of the recipient and any applicable sub-recipients:

All awards will be administered pursuant to the Uniform Administrative Requirements, Cost Principles and Audit Requirements for Federal Awards found in 2 CFR part 200, as adopted by DOT at 2 CFR part 1201.

Other terms and condition as well as performance requirements will be addressed in the cooperative agreement with the recipient. The full terms and conditions of the resulting cooperative agreements may vary and are subject to discussions and negotiations.

In connection with any program or activity conducted with or benefiting from funds awarded under this notice, recipients of funds must comply with all applicable requirements of Federal law, including, without limitation, the Constitution of the United States, statutory, regulatory, and public policy requirements, including without limitation, those protecting free speech, religious liberty, public welfare, the environment, and prohibiting discrimination; the conditions of performance, non-discrimination requirements, and other assurances made applicable to the award of funds in accordance with regulations of the Department of Transportation; and applicable Federal financial assistance and contracting principles promulgated by the Office of Management and Budget. In complying with these requirements, recipients must ensure that no concession agreements are denied, or other contracting decisions made based on speech or other activities protected by the First Amendment. If the Bureau determines that a recipient has failed to comply with applicable Federal requirements, the Bureau may terminate the award of funds and disallow previously incurred costs, requiring the recipient to reimburse any expended award funds. Additionally, Executive Order 13858 directs the Executive Branch Departments and agencies to maximize the use of goods, products, and materials produced in the United States through the terms and conditions of Federal financial assistance awards. If selected for an award, grant recipients must be prepared to demonstrate how they will maximize the use of domestic goods, products, and materials, as applicable, in establishing and operating the RIA.

3. Reporting

a. Progress Reporting on Grant Activities

Each applicant selected for RIA grant funding must submit semi-annual progress reports as agreed to in the cooperative agreement to monitor RIA progress and ensure accountability and financial transparency in the RIA grant program.

b. Performance Reporting

Each applicant selected for RIA grant funding must collect and report to the Bureau information on the RIA's performance. The specific performance information and reporting period will be determined on an individual basis. It is anticipated that the Bureau and the grant recipient will hold monthly progress meetings or calls during which the Bureau will review project activities, schedule, and progress toward mutually agreed upon performance targets in the cooperative agreement. If the award is greater than $500,000 over the period of performance, applicants must adhere to the post award reporting requirements reflected in 2 CFR part 200 Appendix XII—Award Term and Condition for Recipient Integrity and Performance Matters.

c. Reporting of Matters Related to Recipient Integrity and Performance

If the total value of a selected applicant's currently active grants, cooperative agreements, and procurement contracts from all Federal awarding agencies exceeds $10,000,000 for any period of time during the period of performance of this Federal award, then the applicant during that period of time must maintain the currency of information reported to the SAM that is made available in the designated integrity and performance system (currently FAPIIS) about civil, criminal, or administrative proceedings described in paragraph 2 of this award term and condition. This is a statutory requirement under section 872 of Public Law 110-417, as amended (41 U.S.C. 2313). As required by section 3010 of Public Law 111-212, all information posted in the designated integrity and performance system on or after April 15, 2011, except past performance reviews required for Federal procurement contracts, will be publicly available.

G. Federal Awarding Agency Contacts

For further information concerning this notice please contact the Bureau via email at RIA@dot.gov, or call Carl Ringgold at 202-366-2750. A TDD is available for individuals who are deaf or hard of hearing at 202-366-3993. In addition, the Bureau will post answers to questions and requests for clarifications on the Bureau's website at https://www.transportation.gov/buildamerica/financing/tifia/regional-infrastructure-accelerators-program. To ensure applicants receive accurate information about eligibility or the Program, the applicant is encouraged to contact the Bureau directly, rather than through intermediaries or third parties, with questions. Bureau staff may also conduct briefings on the Program grant selection and award process upon request.

H. Other Information

1. Protection of Confidential Business Information: All information submitted as part of or in support of any application shall use publicly available data or data that can be made public and methodologies that are accepted by industry practice and standards, to the extent possible. If the applicant submits information that the applicant considers to be a trade secret or confidential commercial or financial information, the applicant must provide that information in a separate document, which the applicant may cross-reference from the application narrative or other portions of the application. For the separate document containing confidential information, the applicant must do the following: (1) State on the cover of that document that it “Contains Confidential Business Information (CBI)”; (2) mark each page that contains confidential information with “CBI”; (3) highlight or otherwise denote the confidential content on each page; and (4) at the end of the document, indicate whether the CBI is information the applicant keeps private and is of the type of information the applicant regularly keeps private. The Bureau/DOT will protect confidential information complying with these requirements to the extent required under applicable law. If the Bureau receives a Freedom of Information Act (FOIA) request for the information that the applicant has marked in accordance with this section, the Bureau will follow the procedures described in its FOIA regulations at 49 CFR 7.29.

2. Publication/Sharing of Application Information: Following the completion of the selection process and announcement of awards, the Bureau intends to publish a list of all applications received along with the names of the applicant organizations and funding amounts requested. Except for the information properly marked as described in Section H.1, the Bureau may make application narratives publicly available or share application information within DOT or with other Federal agencies if DOT determines that sharing is relevant to the respective program's objectives.

3. Department Feedback on Application: The Bureau strives to provide as much information as possible to assist applicants with the application process. The Bureau will not review applications in advance, but Bureau staff are available for technical questions and assistance.

4. Rural Opportunities: User-friendly information and resources regarding DOT's discretionary grant programs relevant to rural applicants can be found on the Rural Opportunities to Use Transportation for Economic Success (ROUTES) website at transportation.gov/rural.

Issued in Washington, DC, on December 27, 2021.
Peter Paul Montgomery Buttigieg,
Secretary of Transportation.

[FR Doc. 2021-28552 Filed 1-5-22; 8:45 am]

BILLING CODE 4910-9X-P